DEPARTMENT OF TRANSPORTATION

National Highway Traffic Safety Administration

[Docket No. NHTSA-2005-21845]

Notice of Receipt of Petition for Decision That Nonconforming 2005 Mercedes Benz Type 463 Short Wheel Base Gelaendewagen Multipurpose Passenger Vehicles Are Eligible for Importation

AGENCY: National Highway Traffic Safety Administration, DOT.

ACTION: Notice of receipt of petitions for decision that nonconforming 2005 Mercedes Benz Type 463 Short Wheel Base Gelaendewagen Multipurpose Passenger Vehicles are eligible for importation.

SUMMARY: This document announces receipt by the National Highway Traffic Safety Administration (NHTSA) of two petitions for a decision that 2005 Mercedes Benz Type 463 Short Wheel Base (SWB) Gelaendewagen Multipurpose Passenger Vehicles (MPVs) that were not originally manufactured to comply with all applicable Federal motor vehicle safety standards (FMVSS) are eligible for importation into the United States because they have safety features that comply with, or are capable of being altered to comply with, all such standards.

DATES: The closing date for comments on the petitions is August 29, 2005.

ADDRESSES: Comments should refer to the docket number and notice number, and be submitted to: Docket Management, Room PL-401, 400 Seventh St., SW., Washington, DC 20590. [Docket hours are from 9 am to 5 pm]. Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FOR FURTHER INFORMATION CONTACT: Coleman Sachs, Office of Vehicle Safety Compliance, NHTSA (202-366-3151).

SUPPLEMENTARY INFORMATION:

Background

Under 49 U.S.C. 30141(a)(1)(B), a motor vehicle that was not originally manufactured to conform to all applicable FMVSS, and has no substantially similar U.S.-certified counterpart, shall be refused admission into the United States unless NHTSA has decided that the motor vehicle has safety features that comply with, or are capable of being altered to comply with, all applicable FMVSS based on destructive test data or such other evidence as NHTSA decides to be adequate.

Petitions for eligibility decisions may be submitted by either manufacturers or importers who have registered with NHTSA pursuant to 49 CFR Part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

Wallace Environmental Testing Laboratories, Inc., of Houston, Texas (“WETL”) (Registered Importer 09-005), petitioned NHTSA to decide whether 2005 Type 463 SWB Gelaendewagen MPVs are eligible for importation into the United States. Shortly after WETL's petition was filed, J.K. Technologies, L.L.C., of Baltimore, Maryland (J.K.) (Registered Importer 09-006) separately petitioned NHTSA to decide whether 2005 Type 463 SWB Gelaendewagen MPVs are eligible for importation into the United States. Because the two petitions pertain to the same vehicle, NHTSA is soliciting comments on both petitions in this notice. WETL and J.K. believe that these vehicles can be made to conform to all applicable FMVSS.

In their petitions, both WETL and J.K. noted that NHTSA has granted import eligibility to the 2004 Mercedes Benz 463 SWB Gelaendewagen MPV (covered by vehicle eligibility number VCP-28) that they claim is identical to the 2005 Mercedes Benz 463 SWB Gelaendewagen MPV. Because both petitioners assert that the subject vehicles are similar to the 2004 model year vehicles that have been deemed eligible for importation under vehicle eligibility number VCP-28, we regard the petitions as pertaining to both the Cabriolet and the Three Door versions of the vehicle. In the petition for the 2004 model, the petitioner asserted that over a period of ten years, NHTSA has granted import eligibility to a number of Mercedes Benz Gelaendewagen 463 vehicles. These include the 1990-1996 SWB version of the vehicle (assigned vehicle eligibility number VCP-14) and the 1996 through 2001 long wheel base (LWB) version of the vehicle (assigned vehicle eligibility numbers VCP-11, VCP-15, VCP-16, VCP-18, and VCP-21). These eligibility decisions were based on petitions submitted by J.K. and another registered importer, Europa International, Inc., of Santa Fe, New Mexico (Registered Importer 91-206), claiming that the vehicles are capable of being altered to comply with all applicable FMVSS. Because those vehicles were not manufactured for importation into and sale in the United States, and were not certified by their original manufacturer (Daimler Benz), as conforming to all applicable FMVSS, they cannot be categorized as “substantially similar” to the 2005 SWB versions for purposes of establishing import eligibility under 49 U.S.C. 30141(a)(1)(A). In addition, while there are some similarities between the SWB and LWB versions, NHTSA has decided that the 2002 through 2005 LWB versions of the vehicle that Mercedes Benz has manufactured for importation into and sale in the United States cannot be categorized as substantially similar to the SWB versions for the purpose of establishing import eligibility under section 30141(a)(1)(A). Therefore, WETL's and J.K.'s petitions are being processed pursuant to 49 U.S.C. 30141(a)(1)(B) alone.

WETL and J.K. submitted information with their petitions intended to demonstrate that 2005 Type 463 SWB Gelaendewagen MPVs, as originally manufactured, comply with many applicable FMVSS and are capable of being modified to comply with all other applicable standards to which they were not originally manufactured to conform.

Specifically, the petitioners claim that 2005 Type 463 SWB Gelaendewagen MPVs have safety features that comply with Standard Nos. 102 Transmission Shift Lever Sequence, Starter Interlock, and Transmission Braking Effect, 103 Windshield Defrosting and Defogging Systems, 104 Windshield Wiping and Washing Systems, 106 Brake Hoses, 113 Hood Latch System, 116 Motor Vehicle Brake Fluid, 119 New Pneumatic Tires for Vehicles Other than Passenger Cars, 124 Accelerator Control Systems, 135 Passenger Car Brake Systems, 201 Occupant Protection in Interior Impact, 202 Head Restraints, 204 Steering Control Rearward Displacement, 205 Glazing Materials, 206 Door Locks and Door Retention Components, 207 Seating Systems, 209 Seat Belt Assemblies, 210 Seat Belt Assembly Anchorages, 212 Windshield Mounting, 214 Side Impact Protection, 216 Roof Crush Resistance, 219 Windshield Zone Intrusion, and 302 Flammability of Interior Materials.

Additionally, WETL claims that 2005 Type 463 SWB Gelaendewagen MPVs, as originally manufactured, comply with Standard No. 120 Tire Selection and Rims for Motor Vehicles Other than Passenger Cars.

Both petitioners contend that the vehicles are capable of being altered to comply with the following standards, in the manner indicated:

Standard No. 101 Controls and Displays: (a) Replacement of the instrument cluster with a U.S.-model component; and (b) reprogramming and initialization of the vehicle control system to integrate the new instrument cluster and activate required warning systems.

Standard No. 108 Lamps, Reflective Devices and Associated Equipment: (a) Installation of U.S.-model taillamp assemblies or modification of existing taillamps to conform to the standard; and (b) installation of front and rear U.S.-model sidemarker lamps.

Standard No. 111 Rearview Mirrors: Replacement of the passenger side rearview mirror with a U.S.-model component or inscription of the required warning statement on the mirror's surface.

Standard No. 114 Theft Protection: Reprogramming of the vehicle control systems to comply with the standard.

Standard No. 118 Power-Operated Window, Partition, and Roof Panel Systems: Reprogramming of the vehicle control systems to comply with the standard.

Standard No. 208 Occupant Crash Protection: Programming of the vehicle control systems to activate the required seat belt warning system. The petitioners state that the vehicles are equipped with driver's and passenger's air bags and knee bolsters, and with combination lap and shoulder belts that are self-tensioning and that release by means of a single red push button at the front and rear outboard seating positions.

Standard No. 225 Child Restraint Anchorage Systems: Installation of U.S.-model child seat anchorage components.

The petitioners also state that a vehicle identification plate must be affixed to the vehicle near the left windshield post and a reference and certification label must be affixed in the area of the left front door post to meet the requirements of 49 CFR Part 565.

J.K. additionally contends that the vehicles are capable of being altered to comply with the following standards, in the manner described below:

Standard No. 101 Controls and Displays: Substitution of a lens marked “Brake” for a lens with a noncomplying symbol on the brake failure indicator lamp, and replacement or conversion of the speedometer to read in miles per hour.

Standard No. 108 Lamps, Reflective Devices and Associated Equipment: Installation of U.S.-model headlamps.

Standard No. 120 Tire Selection and Rims for Motor Vehicles Other than Passenger Cars: Installation of a tire information placard.

Standard No. 301 Fuel System Integrity: J.K. states that the vehicles' fuel systems must be modified with U.S.-model parts to meet U.S. Environmental Protection Agency (EPA) OBDII, Spit Back, and enhanced EVAP requirements. J.K. claims that as modified, these systems will control all fuel leaks in the case of an impact.

WETL additionally contends that the vehicles are capable of being altered to comply with the following standards, in the manner described below:

Standard No. 108 Lamps, Reflective Devices and Associated Equipment: (a) Installation of U.S.-model front turn signal lamps; and (b) installation of a U.S.-model high-mounted stoplamp assembly.

Standard No. 301 Fuel System Integrity: Installation of a rollover valve to comply with to the standard.

Interested persons are invited to submit comments on the petitions described above. Comments should refer to the docket number and be submitted to: Docket Management, Room PL-401, 400 Seventh St., SW., Washington, DC 20590. [Docket hours are from 9 a.m. to 5 p.m.]. It is requested but not required that 10 copies be submitted.

All comments received before the close of business on the closing date indicated above will be considered, and will be available for examination in the docket at the above address both before and after that date. To the extent possible, comments filed after the closing date will also be considered. Notice of final action on the petition will be published in the Federal Register pursuant to the authority indicated below.

Authority: 49 U.S.C. 30141(a)(1)(A) and (b)(1); 49 CFR 593.8; delegations of authority at 49 CFR 1.50 and 501.8.

Claude H. Harris,
Director, Office of Vehicle Safety Compliance.

[FR Doc. 05-15064 Filed 7-28-05; 8:45 am]

BILLING CODE 4910-59-P